ENVIRONMENTAL PROTECTION AGENCY

[EPA-HQ-ORD-2013-0282; FRL—9536-8]

Information Collection Request Submitted to OMB for Review and Approval; Comment Request; Willingness To Pay Survey for Santa Cruz River Management Options in Southern Arizona (New)

AGENCY: Environmental Protection Agency (EPA).

ACTION: Notice.

SUMMARY: The Environmental Protection Agency has submitted an information collection request (ICR), “Willingness To Pay Survey for Santa Cruz River Management Options in Southern Arizona (New)” (EPA ICR No. 2484.01, OMB Control No. 2080-NEW) to the Office of Management and Budget (OMB) for review and approval in accordance with the Paperwork Reduction Act (44 U.S.C. 3501 et seq.). This is a request for approval of a new collection. Public comments were previously requested via the Federal Register (78 FR 26773) on May 8, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 25, 2013.

ADDRESSES: Submit your comments, referencing Docket ID Number EPA-HQ-ORD-2013-0282, to (1) EPA online using www.regulations.gov (our preferred method), by email to ord.docket@epa.gov, or by mail to: EPA Docket Center, Environmental Protection Agency, Mail Code 28221T, 1200 Pennsylvania Ave., NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Matthew A. Weber, Environmental Protection Agency, 200 SW. 35th St., Corvallis, OR 97333; telephone number: (541) 754-4315; fax number: (541) 754-4799; email address: weber.matthew@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The USEPA Office of Research and Development is investigating public values for scenarios of change for perennial reaches of the effluent-dominated Santa Cruz River, Arizona. These values will be estimated via a willingness to pay mail survey instrument. There are two effluent-dominated perennial reaches considered in the survey. A “South” reach starts at an outfall in Rio Rico, AZ, and flows northward through Tumacácori National Historical Park. A “North” reach is fed by two outfalls in northwest Tucson, Arizona, flows northwest through Marana, AZ. For each of the South and North reaches, two different scenarios of change are considered. The first is a reduction in flow length, and associated decreases in cottonwood-willow riparian forest, a rare forest type in the region. The second is an increase in water quality to allow full contact recreation, such as submersion, at normal flow levels. The baseline flow length and forest acreages, as well as the acreages of forest that would be associated with reduced flow lengths, are derived from natural science information and modeling. For the survey, a choice experiment framework is used with statistically designed alternative choices. Options to maintain flow length and forest, or increase effluent water quality, are posed as increases in a yearly household tax. Each choice question allows a zero cost “opt out” option. The choice experiment is designed to allow isolation of the public value of each marginal change for each reach. A few additional questions to further understand respondent choice motivations, as well as their river-related recreation behavior, are also included. Several pages of background introduce the issue to respondents. A small number of sociodemographic questions are included to gauge how well the sample respondents represent the target population. Samples of the two major metropolitan areas in southern Arizona, Phoenix and Tucson, will receive the survey. The primary reason for the survey is public value research. The Santa Cruz River is a case study of a waterway highly impacted by human modifications. However it still represents potentially valuable ecological commodities such as rare riparian habitat and recreational opportunities for the regional population. The survey results may also be informative to local decision-makers considering Santa Cruz River management options. Water scarcity in the region raises periodic debates on the best uses of effluent. All survey responses will be kept confidential.

Form Numbers: None.

Respondents/affected entities: The target respondents for this survey are representatives 18 yrs or older of households in the two most populated urban areas of Arizona, the Phoenix metro area, and the Tucson metro area.

Respondent's obligation to respond: Voluntary.

Estimated number of respondents: 500 households.

Frequency of response: One-time response.

Total estimated burden: 250 hours.

Total estimated cost: $5,275, which includes no operations and maintenance costs.

Changes in the Estimates: This is a new ICR, thus there is no currently approved burden.

Richard T. Westlund,
Acting Director, Collection Strategies Division.

[FR Doc. 2013-23351 Filed 9-24-13; 8:45 am]

BILLING CODE 6560-50-P